DEPARTMENT OF EDUCATION

Applications for New Awards; Postsecondary Education Center for Individuals Who Are Deaf

AGENCY: Office of Special Education and Rehabilitative Services, Department of Education.

ACTION: Notice.

Overview Information:

Technical Assistance and Dissemination to Improve Services and Results for Children with Disabilities (TA&D); Personnel Development to Improve Services and Results for Children with Disabilities (Personnel Development); and Technology and Media Services for Individuals with Disabilities (T&M Services) Programs—Postsecondary Education Center for Individuals who are Deaf

Notice inviting applications for new awards for fiscal year (FY) 2011.

Catalog of Federal Domestic Assistance (CFDA) Number: 84.326D.

DATES:

Applications Available: August 9, 2011.

Deadline for Transmittal of Applications: September 8, 2011.

Full Text of Announcement

I. Funding Opportunity Description

Purpose of Programs: Funding from three programs—the TA&D, the Personnel Development, and the T&M Services Programs—supports this competition.

The purpose of the TA&D Program is to promote academic achievement and to improve results for children with disabilities by providing technical assistance (TA), supporting model demonstration projects, disseminating useful information, and implementing activities that are supported by scientifically based research.

The Personnel Development Program: (1) Helps address State-identified needs for highly qualified personnel—in special education, related services, early intervention, and regular education—to work with children with disabilities and (2) ensures that those personnel have the skills and knowledge—derived from practices that have been determined through research and experience to be successful—that are needed to serve those children.

Finally, the T&M Services Program: (1) Improves results for children with disabilities by promoting the development, demonstration, and use of technology, (2) supports educational media services activities designed to be of educational value in the classroom setting to children with disabilities, and (3) provides support for captioning and video description that is appropriate for use in the classroom setting.

Priority: In accordance with 34 CFR 75.105(b)(2)(v), this priority is from allowable activities specified in the statute or otherwise authorized in the statute (see sections 662(c)(2), 663(c)(8)(C), 674(b), and 681(d)of the Individuals with Disabilities Education Act (IDEA), 20 U.S.C. 1463 and 1481(d)).

Absolute Priority: For FY 2011 and any subsequent year in which we make awards based on the list of unfunded applicants from this competition, this priority is an absolute priority. Under 34 CFR 75.105(c)(3) we consider only applications that meet this priority.

This priority is:

Postsecondary Education Center for Individuals who are Deaf 84.326D

Background:

Individuals who are deaf or hard of hearing have unique communication and language barriers that require a range of accommodations for success in postsecondary education settings. Research, policy, and practice suggest that decisions about accommodations should be made on an individual basis (Marschark, 2001; U.S. Department of Education, 2005). For example, different accommodations are needed for a student who has hearing aids, a student who has a cochlear implant and uses oral-auditory strategies, a student with a cochlear implant who uses sign language in addition to oral-auditory strategies, and a student who uses sign language only (Marschark, 2001). It is important that postsecondary institutions be well-informed about the various accommodations that may be appropriate for students who are deaf or hard of hearing, such as oral transliteration services, cued language transliteration services, sign language transliteration, and interpreting and transcription services.

To address the needs of these students, section 682(d)(1)(B) of IDEA requires that the Secretary ensure that, for each fiscal year, not less than $4,000,000 is provided to address the postsecondary, vocational, technical, continuing, and adult education needs of individuals with deafness. Pursuant to this requirement, the Department's Office of Special Education Programs (OSEP) has previously funded four regional centers to assist postsecondary institutions in more effectively addressing the postsecondary, vocational, technical, continuing, and adult education needs of individuals who are deaf or hard of hearing. These centers have served collectively as the Postsecondary Education Programs Network (PEPNet). While PEPNet's project period is scheduled to end on September 30, 2011, institutions of higher education (IHEs) continue to need assistance to support this population. For more information about PEPNet, see http://www.pepnet.org.

In addition to the funding required under section 682(d)(1)(B) of IDEA, section 504 of the Rehabilitation Act of 1973 (Section 504) and the Americans with Disabilities Act of 1990, as amended (ADA) outline postsecondary institutions' obligations to ensure they do not discriminate on the basis of disability, including in their provision of academic adjustments and auxiliary aids and services for students with disabilities (34 CFR 104.44; 28 CFR 35.160-164; 28 CFR 36.303). Current statistics show that many individuals who are deaf or hard of hearing are enrolling in mainstream postsecondary institutions (Raue & Lewis, 2011). Given the numbers of students enrolling in mainstream postsecondary institutions, and considering the various types of accommodations that may be necessary to serve this low-incidence population, it is paramount that personnel at these postsecondary institutions have the knowledge and skills needed to provide fully accessible learning experiences for students who are deaf or hard of hearing (Lang, 2002). For example, personnel must be skilled at helping to determine the appropriate type of interpreting services for a particular student's needs. Personnel must also be knowledgeable about other services from which the student may benefit (e.g., captioning or note-taking) and the availability of newer technology, such as live text-captioning technologies (e.g., C-Print or Computer Assisted Realtime Translation) and assistive listening devices, that are effective accommodations for students who are deaf or hard of hearing (Cawthon, Nichols, & Collier, 2009). Given the fast pace of emerging technology, it is particularly important for personnel to have access to the information needed to stay current in this area.

In addition, there are deaf or hard of hearing students who are not college-bound and who need to develop their basic skills to prepare to enter job training programs or matriculate to other postsecondary education programs. Researchers examined the transition strengths and needs of 53 middle and high school students who were deaf or hard of hearing and found substantial deficits in employment and independent living skills ¹ (Luft and Huff, 2011). Individuals who are deaf or hard of hearing need access to a wide variety of institutions or programs that provide postsecondary educational opportunities to address these needs. These postsecondary educational opportunities may be provided by postsecondary institutions and other relevant organizations and public agencies such as secondary schools, vocational rehabilitation agencies, community service agencies, centers for independent living, and one stop centers funded under the Workforce Investment Act.

¹ In this study, employment skills included job-seeking skills, work adjustment skills (e.g., work schedules and deadlines, job-related reading and math), and job-related social and interpersonal skills. Independent living skills included money management skills, health- and home-related skills, and community awareness (e.g., use of public transportation, effective communication) (Luft and Huff, 2011).

To help bring about significant improvement in the quality of services for students who are deaf or hard of hearing and to improve educational outcomes, a national agenda was developed by a coalition of parent, consumer, professional, and advocacy organizations involved in the education of children who are deaf or hard of hearing. This national agenda, called Moving Forward on Achieving Educational Equality for Deaf and Hard of Hearing Students (National Agenda),² is currently underway and its focus is on helping State educational agencies (SEAs), local educational agencies (LEAs), postsecondary institutions, and their partners identify and implement strategies to significantly improve the quality and nature of educational programs and services for students who are deaf or hard of hearing (Muller, 2005; National Agenda, 2005; NASDSE, 2006; National State Leaders' Summit, 2010). For the past several years, through this National Agenda, State teams comprised of parents and representatives from SEAs, LEAs, State (or other) special schools and programs for the deaf, postsecondary institutions, early childhood deaf education, and others have met annually for a National State Leaders Summit to learn about effective strategies and develop State plans for improving outcomes for children and youth who are deaf or hard of hearing. The National Agenda encourages State teams to focus on goals and practices that will help support postsecondary access and completion for deaf or hard of hearing students. These practices include establishing collaborative partnerships among diverse agencies to improve coordination of services, making technology available to support educational access, and preparing personnel to meet the needs of a diverse population of deaf or hard of hearing students. The Department intends to build on these efforts by providing TA to State teams, including representatives from postsecondary institutions, to address the postsecondary, vocational, technical, continuing, and adult education needs of individuals who are deaf or hard of hearing.

² The National Agenda is an education initiative based on a set of priorities that are stated as goals and that are designed to bring about significant improvement in the quality and nature of educational services and programs for deaf and hard of hearing students. The National Agenda was developed by a coalition of parent, consumer, professional, and advocacy organizations involved in the education of children who are deaf and hard of hearing, and working to develop an effective, communication and language-driven educational delivery system for children. The following Web sites provide more information on the National Agenda: http://www.ndepnow.org/agenda/agenda.htm or http://http://www.pepnet.org/2011Summit.asp

Consistent with the Department's priority to increase all students' postsecondary success, the Department seeks to support postsecondary institutions, working with other relevant organizations and public agencies, in increasing the number and proportion of students who are deaf or hard of hearing who attend, persist in, and complete college or other postsecondary education and training (U.S. Department of Education, 2010b).

Priority:

The purpose of this priority is to support a Postsecondary Education Center for Individuals who are Deaf (Center) that will support postsecondary institutions, working with other relevant organizations and public agencies, to more effectively address the postsecondary, vocational, technical, continuing, and adult education needs of individuals who are deaf or hard of hearing, including those who are deaf or hard of hearing with co-occurring disabilities such as learning and emotional disabilities, so that a greater number and proportion of these students persist in and complete college or other postsecondary education and training. The Center will: (1) Provide postsecondary institutions and other relevant organizations and public agencies with technical assistance on programs, practices, and activities that postsecondary institutions could use to improve the completion and persistence of students who are deaf or hard of hearing; (2) provide professional development opportunities through local, State, regional, and national in-person or online trainings to postsecondary educators and other individuals who provide educational services to postsecondary students who are deaf; and (3) provide training and information about how postsecondary institutions and other relevant organizations and public agencies can utilize technology to provide and promote access and accommodations for individuals who are deaf or hard of hearing.

To be considered eligible for funding under this absolute priority, applicants must meet the application requirements contained in this priority. Any project funded under this absolute priority also must meet the programmatic and administrative requirements specified in the priority.

Application Requirements. An applicant must include in its application—

(a) A logic model that depicts, at a minimum, the goals, activities, outputs, and outcomes of the proposed Center. A logic model communicates how the Center will achieve its outcomes and provides a framework for both the formative and summative evaluations of the Center;

Note: The following Web sites provide more information on logic models: http://www.researchutilization.org/matrix/logicmodel_resource3c.html and http://www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one and one half day kick-off meeting to be held in Washington, DC, within four weeks after receipt of the award, and an annual two-day planning meeting held in Washington, DC, with the OSEP Project Officer during each subsequent year of the project period.

(2) A three-day Project Directors' Conference in Washington, DC, during each year of the project period.

(3) A three-day Technical Assistance and Dissemination Conference in Washington, DC, during each year of the project period.

(4) A minimum of two two-day trips annually to attend Department briefings, Department-sponsored conferences, and other meetings, as requested by OSEP.

(f) A line item in the proposed budget for an annual set-aside of 5 percent of the grant amount to support emerging needs that are consistent with the proposed project's activities, as those needs are identified in consultation with OSEP.

Note: With approval from the OSEP Project Officer, the Center must reallocate any remaining funds from this annual set-aside no later than the end of the third quarter of each budget period.

(g) A description of both the process and the selection criteria that the Center will use to identify the recipients of the needs assessments and subsequent TA described under sections (a) and (b) of each of the Project Activities sections of this notice (TA&D Project Activities, Personnel Development Project Activities, T&M Services Project Activities). The Center must obtain approval from OSEP before finalizing the selection criteria and making the final selection of the recipients.

Project Activities. To meet the requirements of this priority, the Center at a minimum, must conduct the following project activities: TA&D Project Activities, Personnel Development Project Activities, and T&M Services Project Activities.

TA&D Project Activities (Consistent with section 663(c)(8)(C) of IDEA).

(a) Conduct assessments, including examining student outcome data, to determine current TA needs of postsecondary institutions related to meeting the postsecondary, vocational, technical, continuing, and adult education needs of individuals who are deaf or hard of hearing. Such assessments must identify the needs of postsecondary institutions related to enrolling, retaining, and instructing students who are deaf or hard of hearing and addressing the varying communication needs of, and methods used by, individuals who are deaf or hard of hearing, such as oral transliteration services, cued language transliteration services, sign language transliteration and interpreting services, and transcription services. In its application, an applicant must describe both the process and the selection criteria that the Center will use to identify the institutions that will receive the needs assessment and subsequent TA. The Center must obtain approval from OSEP before finalizing the selection criteria and making the final selection of institutions.

(b) Provide TA to postsecondary institutions to address the needs identified in assessments conducted under paragraph (a) of these TA&D Project Activities. This TA must—

(1) Be designed to enhance access to college or other postsecondary education and training by individuals who are deaf or hard of hearing;

(2) Address the needs of individuals who are deaf or hard of hearing to improve their persistence and completion in postsecondary education by implementing practices, strategies, or programs that improve student learning outcomes, reduce time to degree, reduce instructional costs, or other activities as appropriate;

(3) Provide information on how to use data to improve postsecondary student outcomes relating to enrollment, persistence, and completion, and leading to career success.

(c) Provide TA on request to other relevant organizations and public agencies working with postsecondary institutions to increase the number and proportion of individuals who are deaf or hard of hearing who enroll in, persist in, and complete postsecondary education. Other relevant organizations and public agencies may include SEAs, vocational rehabilitation agencies, community service agencies, centers for independent living, and one stop centers funded under the Workforce Investment Act. The TA provided under this paragraph (c) must focus on:

(1) Students who are deaf or hard of hearing, including those who are deaf or hard of hearing with co-occurring disabilities such as learning or emotional disabilities, who are transitioning from secondary to postsecondary, vocational, technical, continuing, adult education, the workforce, and the community.

(2) Assisting postsecondary institutions to meet their responsibilities under Federal laws, including Section 504 and the ADA, with respect to students who are deaf or hard of hearing.

(3) Developing and implementing effective procedures for providing postsecondary educational supports to students who are deaf or hard of hearing, including by encouraging the use of cooperative arrangements among postsecondary institutions and other service providers, such as public and private community service providers that may address the educational, remedial, support services, transitional, independent living, and employment needs of individuals who are deaf or hard of hearing. The Center may also address the transition of these students from postsecondary institutions to independent living and employment.

(4) Assisting teams of other relevant organizations and appropriate public agencies, including postsecondary institutions, working on State plans or other strategies to address the postsecondary, vocational, technical, continuing, and adult education needs of individuals who are deaf or hard of hearing.

(d) Make information available to individuals who are deaf or hard of hearing, parents of students who are deaf or hard of hearing, secondary schools, and postsecondary institutions on the availability of resources (e.g., different kinds of accommodations, financial, support services) to support students who are deaf or hard of hearing in completing their postsecondary education.

(e) Incorporate the effective use of technology (e.g., webinars, online instruction) in the delivery of TA to improve productivity and efficiency of these activities.

Personnel Development Project Activities (Consistent With section 662(c)(2) of IDEA)

(a) Conduct assessments, including examining student outcome data, of the personnel development training needs of postsecondary, vocational, and adult education professional and support staff who provide transitional or postsecondary educational services to students who are deaf or hard of hearing.

(b) Provide interdisciplinary training to postsecondary educators, guidance counselors, interpreters, speech pathologists, audiologists, social workers, rehabilitation counselors, and other staff that addresses the needs identified in the assessments conducted under paragraph (a) of these Personnel Development Project Activities and that will contribute to improvements in transitional and postsecondary educational results for students who are deaf or hard of hearing. This training must include information on—

(1) How to use data to improve practice and student outcomes; and

(2) Evidence-based practices that address the postsecondary, vocational, technical, continuing, and adult education needs of individuals who are deaf or hard of hearing.

(c) Provide professional development opportunities through local, State, regional, and national in-person or online trainings on key topics (e.g., orientation to deafness; deafness and English proficiency status; deafness and co-occurring disabilities; how to use data to improve instructional practices) to postsecondary educators and other individuals who provide postsecondary services to students who are deaf or hard of hearing.

(d) Incorporate the effective use of technology (e.g., webinars, online instruction) in the delivery of training to improve the productivity and efficiency of the Center and to ensure that the Center supports a broad audience.

T&M Services Project Activities (Consistent with section 674(b) and (c) of IDEA).

(a) Conduct assessments, including examining student outcome data, to determine the accessible technology and media needs of postsecondary, vocational, and adult education programs related to—

(1) Enrolling, retaining, and instructing students who are deaf or hard of hearing; and

(2) Addressing the varying communication needs of and methods used by individuals who are deaf or hard of hearing.

(b) Provide TA to administrators, faculty, and support staff at postsecondary institutions to address the needs identified in assessments conducted under paragraph (a) of these T&M Services Project Activities. This TA must—

(1) Be designed to enhance access to, and completion of, college or other postsecondary education and training by individuals who are deaf;

(2) Provide information, technological support, and in-service training, as needed, to personnel at postsecondary institutions who provide services to students who are deaf or hard of hearing;

(3) Train personnel in the innovative uses and applications of technology, including universally designed technologies, assistive technology devices, and accessible media formats; and

(4) Train personnel on developing and implementing effective procedures for providing educational technology and media supports to postsecondary students who are deaf or hard of hearing.

(c) Provide information on how postsecondary institutions can use technology to meet their responsibilities under Federal laws, including the ADA and Section 504, to provide access to college or other postsecondary education and training, and to provide accommodations to individuals who are deaf or hard of hearing.

Leadership and Coordination Activities. In addition to the activities conducted under the Project Activities section of this priority, the Center must—

(a) Maintain a Web site that meets government or industry-recognized standards for accessibility and that links to the Web site operated by the Technical Assistance Coordination Center (TACC).

(b) Establish and maintain an advisory committee to review the activities and outcomes of the Center and provide programmatic support and advice throughout the project period. At a minimum, the advisory committee must meet on an annual basis in Washington, DC, and consist of representatives from SEAs, LEAs, school administrators, individuals who are deaf, educators, parents of individuals who are deaf, vocational rehabilitation agencies, community service agencies, centers for independent living, one stop centers funded under the Workforce Investment Act, postsecondary institutions, and service providers who work with transitioning youth and adults who are deaf. The Center must submit the names of proposed members of the advisory committee to OSEP for approval within eight weeks after receipt of the award.

(c) Prepare and disseminate reports, documents, and other materials on appropriate accommodations in postsecondary institutions, how to prepare students who are deaf or hard of hearing to be college and career ready, and related topics as requested by OSEP. The reports must identify effective evidence-based practices as well as areas that would benefit, through additional research, from improved levels of evidence for specific practices. In consultation with the OSEP Project Officer, the Center must make selected reports, documents, and other materials available for parents, educators, service providers, members of professional organizations and advocacy groups, researchers, and others, as appropriate.

(d) Communicate and collaborate, on an ongoing basis and as appropriate, with OSEP-funded projects, such as the Parent Training and Information Centers, the National Secondary Transition Technical Assistance Center, the National High School Center (jointly funded with the Office of Elementary and Secondary Education), the National Center on Deaf-Blindness, the Regional Resource Centers, the Center for Implementing Technology in Education, the Family Center on Technology and Disability, and OSEP-funded projects that focus on training personnel to serve students with low incidence disabilities. In addition, communicate and collaborate, on an ongoing basis and as appropriate, with related projects funded by the Rehabilitation Services Administration, the National Institute on Disability and Rehabilitation Research, the Institute of Education Sciences, and the Office of Vocational and Adult Education. This collaboration could include the joint development of products, the coordination of TA services, and the planning and carrying out of TA meetings and events.

(e) Host an annual National State Systems Change Summit with representatives from the SEAs, LEAs, State schools, parent organizations, postsecondary institutions, vocational rehabilitation agencies, community service agencies, centers for independent living, and one stop centers funded under the Workforce Investment Act, service providers who work with transitioning youth and adults who are deaf or hard of hearing, and other stakeholders. The National State Systems Change Summit may be held in conjunction with other national conferences such as the annual National State Leaders' Summit. The summit must—

(1) Provide, and enable the exchange of, information on establishing and implementing strategies to improve educational programs and services for postsecondary students who are deaf or hard of hearing, and to increase the number and proportion of these students who persist in and complete college or other postsecondary education and training.

(2) Facilitate collaborative planning and implementation among stakeholders to address identified needs of postsecondary institutions in the State related to enrolling, retaining, instructing, and graduating students who are deaf or hard of hearing.

(f) Participate in, organize, or facilitate communities of practice if they align with the needs of the Center's target audience. Communities of practice must align with the Center's objectives to support discussions and collaboration among key stakeholders.

Note: The following Web site provides more information on communities of practice: http://www.tadnet.org/communities.

(g) Prior to developing any new product, submit a proposal for the product to the TACC database for approval from the OSEP Project Officer. The development of new products must be consistent with the product definition and guidelines posted on the TACC Web site (http://www.tadnet.org).

(h) Maintain ongoing communication with the OSEP Project Officer through monthly phone conversations and e-mail communication, as needed.

Extending the Project for a Fourth and Fifth Year

The Secretary may extend the project period of the Center for up to two additional years beyond its original project period of 36 months if the grantee is achieving the intended outcomes of the grant, shows improvement against baseline measures on performance indicators, and is making a positive contribution to practices and improved services that address the postsecondary, vocational, technical, continuing, and adult education needs of individuals who are deaf or hard of hearing, including those who are deaf or hard of hearing with co-occurring disabilities (e.g., learning or emotional disabilities), so that a greater number of students with deafness will complete their postsecondary education.

References:

Cawthon, S. W., Nichols, S. K., & Collier, M. (2009). Facilitating access: What Information do Texas postsecondary institutions provide on accommodations and services for students who are deaf or hard of hearing? American Annals of the Deaf, 155 (5), 450-460.

Lang, H. G. (2002). Higher education for deaf students: Research priorities in the new millennium. Journal of Deaf Studies and Deaf Education, 7 (4), 267-280.

Luft, P., and Huff, K. (2011). How prepared are transition-age deaf and hard of hearing students for adult living? Results of the Transition Competence Battery. American Annals of the Deaf. 155 (5), 569-579.

Marschark, M. (2001). Language development in children who are deaf: A research synthesis. Alexandria, VA: National Association of State Directors of Special Education. (http://www.nasdse.org)

Müller, E. (2005). Deaf and hard of hearing: State infrastructures and programs. Alexandria, VA: National Association of State Directors of Special Education, Project Forum. Retrieved February 17, 2011 from http://www.projectforum.org/documentsearch.cfm

NASDSE, (2006). Meeting the needs of students who are deaf or hard of hearing: Educational services guidelines. Alexandria, VA: National Association of State Directors of Special Education. (http://www.nasdse.org).

National Agenda: Moving Forward on Achieving Educational Equality for Deaf and Hard of Hearing Students, (2005). Retrieved February 17, 2011 from http://www.ndepnow.org/agenda/agenda.htm

National State Leaders' Summit on Deaf Education, (2010). (http://www.pepnet.org).

Raue, K., and Lewis, L. (2011). Students with Disabilities at Degree-Granting Postsecondary Institutions (NCES 2011-018). National Center for Education Statistics, Institute of Education Sciences, U.S. Department of Education. Washington, DC.

U.S. Department of Education, Office for Civil Rights. (1998). Auxiliary aids and services for post-secondary students with disabilities: Higher education's obligations under section 504 and title II of the ADA, Washington, DC, 2010. Retrieved February 17, 2011 from http://www.ed.gov/about/offices/list/ocr/publications.html#Section504.

U.S. Department of Education, Office for Civil Rights. (2005). Deaf Students Education Services. Retrieved December 13, 2010 from http://www2.ed.gov/about/offices/list/ocr/docs/hq9806.html.

U.S. Department of Education, Office for Civil Rights (2007). Transition of students with disabilities to postsecondary education: A guide for high school educators, Washington, DC, Retrieved February 17, 2011 from http://www2.ed.gov/about/offices/list/ocr/transitionguide.html.

U.S. Department of Education, National Center for Education Statistics (2010a), 2003-04 Beginning Postsecondary Students Longitudinal Study, Second Follow-up (BPS:04/09). Computation by NCES PowerStats Version 1.0 on 12/4/2010; revised on December 17, 2010.

U.S. Department of Education (2010). Supplemental Priorities for Discretionary Grant Programs. Federal Register 75 (15 December 2010): 78486-78511. Print

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1462, 1463, 1474, 1481, and 1482.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: Three programs plan to make available a total of an estimated $4,000,000 for this competition: $1,300,000 from the TA&D Program; $1,700,000 from the Personnel Development Program; and $1,000,000 from the T&M Program.

Estimated Average Size of Award: $4,000,000.

Note: In each budget period of 12 months $1,300,000 must be budgeted for the activities described under Technical Assistance and Dissemination Activities (Consistent with section 663(c)(8)(C) of IDEA); $1,700,000 must be budgeted for the activities described under Personnel Development Activities (Consistent with section 662(c)(2) of IDEA); and $1,000,000 must be budgeted for the activities described under T&M Services Activities (Consistent with section 674(b) of IDEA). The Assistant Secretary for Special Education and Rehabilitative Services may change these maximum amounts through a notice published in the Federal Register.

Maximum Awards: We will reject any application that proposes a total budget exceeding $4,000,000 or the individual program budget amounts for the designated activities described in the note under the Estimated Average Size of Award section of this notice for a single budget period of 12 months. The Assistant Secretary for Special Education and Rehabilitative Services may change any of these maximum amounts through a notice published in the Federal Register.

Estimated Number of Awards: 1.

Note: The Department is not bound by any estimates in this notice.

Project Period: Up to 36 months with an optional additional 24 months based on performance. Applications must include plans for both the 36 month award and the 24 month extension.

III. Eligibility Information

1. Eligible Applicants: SEAs; LEAs, including public charter schools that are considered LEAs under State law; IHEs; other public agencies; private nonprofit organizations; outlying areas; freely associated States; Indian tribes or tribal organizations; and for-profit organizations.

Note: Eligible applicants may form consortia that meet the requirements in 34 CFR 75.127 to 75.129 to apply under this competition. The Secretary views the formation of consortia as an effective and efficient strategy to address the requirements of this priority.

2. Cost Sharing or Matching: This competition does not require cost sharing or matching.

3. Other: General Requirements—(a) The project funded under this competition must make positive efforts to employ and advance in employment qualified individuals with disabilities (see section 606 of IDEA).

(b) Applicants and the grant recipient funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: http://www.ed.gov/fund/grant/apply/grantapps/index.html.

To obtain a copy from ED Pubs, write, fax, or call the following: ED Pubs, U.S. Department of Education, P.O. Box 22207, Alexandria, VA 22304. Telephone, toll free: 1-877-433-7827. Fax: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this program or competition as follows: CFDA number 84.326D.

To obtain a copy from the program office, contact the person listed under FOR FURTHER INFORMATION CONTACT in section VII of this notice.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: August 9, 2011.

Deadline for Transmittal of Applications: September 8, 2011.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) Be designated by your organization as an Authorized Organization Representative (AOR); and (2) register yourself with Grants.gov as an AOR. Details on these steps are outlined at the following Grants.gov Web page: http://www.grants.gov/applicants/get_registered.jsp).

7. Other Submission Requirements: Applications for grants under this competition may be submitted electronically or in paper format by mail or hand delivery.

a. Electronic Submission of Applications.

We are participating as a partner in the Governmentwide Grants.gov Apply site. The Postsecondary Education Center for Individuals who are Deaf competition, CFDA number 84.326D, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Postsecondary Education Center for Individuals who are Deaf competition at http://www.Grants.gov. You must search for the downloadable application package for this competition by the CFDA number. Do not include the CFDA number's alpha suffix in your search (e.g., search for 84.326, not 84.326D).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.326D), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326D), 550 12th Street, SW., Room 7041, Potomac Center Plaza, Washington, DC 20202-4260.

The Application Control Center accepts hand deliveries daily between 8:00 a.m. and 4:30:00 p.m., Washington, DC time, except Saturdays, Sundays, and Federal holidays. Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the TA&D program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Louise Tripoli, U.S. Department of Education, 400 Maryland Avenue, SW., room 4077, Potomac Center Plaza (PCP), Washington, DC 20202-2550. Telephone: (202) 245-7554.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: August 4, 2011.
Alexa Posny,
Assistant Secretary for Special Education and Rehabilitative Services.

[FR Doc. 2011-20180 Filed 8-8-11; 8:45 am]

BILLING CODE 4000-01-P